DEPARTMENT OF COMMERCE

Foreign-Trade Zones Board

[Docket 35-2003]

Foreign-Trade Zone 33—Pittsburgh, PA; Application for Subzone Status, Mitsubishi Electric Power Products, Inc. (Circuit Breakers), Warrendale and Freedom, PA; Technical Correction of Application

Notice is hereby given that the application of Board (the Board) by the Regional Industrial Development Corporation of Southwestern Pennsylvania, grantee of FTZ 33, requesting special-purpose subzone status for the circuit breaker manufacturing facilities of Mitsubishi Electric Power Products, Inc. (MEPPI) (a subsidiary of Mitsubishi Electric Corporation, of Japan), located in Warrendale and Freedom, Pennsylvania (68 FR 44281, 7-28-03), has been corrected to revise the scope of manufacturing authority to include full, straight-time production capacity of 1,500 units per year.

The comment period is reopened until September 23, 2003. Submissions (original and three copies) shall be addressed to the Board's Executive Secretary at the following addresses:

1. Submissions via Express/Package Delivery Services: Foreign-Trade Zones Board, U.S. Department of Commerce, Franklin Court Building-Suite 4100W, 1099 14th Street, NW., Washington, DC 20005; or

2. Submissions via the U.S. Postal Service: Foreign-Trade Zones Board, U.S. Department of Commerce, FCB-4100W, 1401 Constitution Ave., NW., Washington, DC 20230.

A copy of the application is available for public inspection at the Office of the Foreign-Trade Zones Board's Executive Secretary at address No. 1 listed above and at the U.S. Department of Commerce Export Assistance Center, Suite 2002, 1000 Liberty Avenue, Pittsburgh, PA 15222.

Dated: August 28, 2003.
Dennis Puccinelli,
Executive Secretary.

[FR Doc. 03-22434 Filed 9-2-03; 8:45 am]

BILLING CODE 3510-DS-P